DEPARTMENT OF COMMERCE

National Oceanic and Atmospheric Administration

[I.D. 052901D]

Caribbean Fishery Management Council; Public Meeting

AGENCY: National Marine Fisheries Service (NMFS), National Oceanic and Atmospheric Administration (NOAA), Commerce.

ACTION: Notice of public meetings.

SUMMARY: The Caribbean Fishery Management Council (Council) will hold meetings.

DATES: The meetings will be held on June 28-29, 2001. The Council will convene on Thursday June 28, 2001, from 1 p.m. to 5 p.m., through June 29, 2001, from 9 a.m. to 12 noon, approximately.

ADDRESSES: The meetings will be held at the Ponce Holiday Inn, 3315 Ponce By Pass, Ponce, Puerto Rico 00731.

FOR FURTHER INFORMATION CONTACT: Caribbean Fishery Management Council, 268 Muñoz Rivera Avenue, Suite 1108, San Juan, Puerto Rico 00918-2577, telephone: (787) 766-5926.

SUPPLEMENTARY INFORMATION: The Council will hold its 104th regular public meeting to discuss the items contained in the following agenda:

Call to Order

Adoption of Agenda

Consideration of 103rd Council Meeting Summary Minutes

Audit Report

Sustainable Fisheries Act

Reeffish Amendment 3

- Public Hearings Report

Queen Conch Fishery Management Plan

- Interviews with Queen Conch Fishers

Recommendations by Administrative Committee at its March 26, 2001 Meeting

Meetings Attended by Council Members and Staff

Other Business

Next Council Meeting

The meeting is open to the public, and will be conducted in English. However, simultaneous interpretation (Spanish-English) will be available during the Council meeting (June 28-29, 2001). Fishers and other interested persons are invited to attend and participate with oral or written statements regarding agenda issues.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

This meeting is physically accessible to people with disabilities. For more information or request for sign language interpretation and/other auxiliary aids, please contact Mr. Miguel A. Rolón, Executive Director, Caribbean Fishery Management Council, 268 Muñoz Rivera Avenue, Suite 1108, San Juan, Puerto Rico, 00918-2577, telephone (787) 766-5926, at least 5 days prior to the meeting date.

Dated: May 30, 2001.
Richard W. Surdi,
Acting Director, Office of Sustainable Fisheries, National Marine Fisheries Service.

[FR Doc. 01-14126 Filed 6-4-01; 8:45 am]

BILLING CODE 3510-22-S